EXPORT-IMPORT BANK OF THE UNITED STATES

Economic Impact Policy

This notice is to inform the public that the Export-Import Bank of the United States has received an application for a $400 million long-term guarantee to support the export of approximately $450 million worth of mining equipment and services to Mexico. The U.S. exports will enable the Mexican company to produce, on average, 50,900 metric tons of copper, 1,500 metric tons of cobalt, and 25,200 metric tons of zinc sulfate monohydrate (ZSM) per year during the 12-year repayment term of the guarantee. Available information indicates that new Mexican production of copper and cobalt will be sold in South Korea and international markets. New Mexican production of ZSM will be sold in the U.S., Canada, Mexico, and Brazil. Interested parties may submit comments on this transaction by e-mail to economic.impact@exim.gov or by mail to 811 Vermont Avenue, NW., Room 947, Washington, DC 20571, within 14 days of the date this notice appears in the Federal Register.

Jonathan J. Cordone,
Senior Vice President and General Counsel.

[FR Doc. 2010-11954 Filed 5-18-10; 8:45 am]

BILLING CODE 6690-01-P